DEPARTMENT OF COMMERCE

National Oceanic and Atmospheric Administration

50 CFR Part 648

[Docket No. 031015257-3257-01; I.D. 092503C]

RIN 0648-AQ79

Fisheries of the Northeastern United States; Proposed 2004 Fishing Quotas for Atlantic Surfclams, Ocean Quahogs, and Maine Mahogany Ocean Quahogs

AGENCY: National Marine Fisheries Service (NMFS), National Oceanic and Atmospheric Administration (NOAA), Commerce.

ACTION: Proposed rule - 2004 fishing quotas for Atlantic surfclams, ocean quahogs, and Maine mahogany ocean quahogs; request for comments.

SUMMARY: NMFS proposes quotas for the Atlantic surfclam, ocean quahog, and Maine mahogany ocean quahog fisheries for 2004. Regulations governing these fisheries require NMFS to publish the proposed specifications for the 2004 fishing year and seek public comment on such proposed measures. The intent of this action is to propose allowable harvest levels of Atlantic surfclams and ocean quahogs from the Exclusive Economic Zone and an allowable harvest level of Maine mahogany ocean quahogs from Atlantic waters north of 43° 50′ N. lat. in 2004.

DATES: Comments must be received no later than 5 p.m., eastern standard time, on November 21, 2003.

ADDRESSES: Copies of supporting documents, including the Environmental Assessment, Regulatory Impact Review, Initial Regulatory Flexibility Analysis (EA/RIR/IRFA), and the Essential Fish Habitat Assessment, are available from Daniel Furlong, Executive Director, Mid-Atlantic Fishery Management Council, Room 2115, Federal Building, 300 South New Street, Dover, DE 19904-6790. A copy of the EA/RIR/IRFA is accessible via the Internet at http:/www.nero.gov/ro/doc/nr.htm.

Written comments on the proposed specifications should be sent to: Patricia A. Kurkul, Regional Administrator, Northeast Region, NMFS, One Blackburn Drive, Gloucester, MA 01930-2298. Mark on the outside of the envelope, “Comments—2004 Clam and Quahog Specifications.” Comments may also be sent via facsimile (fax) to (978) 281-9135. Comments will not be accepted if submitted via e-mail or the Internet.

FOR FURTHER INFORMATION CONTACT: Susan W. Chinn, Fishery Management Specialist, 978-281-9218, susan.chinn@noaa.gov.

SUPPLEMENTARY INFORMATION: The Fishery Management Plan for the Atlantic Surfclam and Ocean Quahog Fisheries (FMP) requires that NMFS, in consultation with the Mid-Atlantic Fishery Management Council (Council), specify quotas for surfclams and ocean quahogs on an annual basis from a range that represents the optimum yield (OY) for each fishery. It is the policy of the Council that the levels selected allow sustainable fishing to continue at that level for at least 10 years for surfclams and 30 years for ocean quahogs. In addition to this constraint, the Council policy also considers the economic impacts of the quotas. Regulations implementing Amendment 10 to the FMP, published on May 19, 1998 (63 FR 27481), added Maine mahogany ocean quahogs (locally known as mahogany quahogs) to the management unit and provided that a small artisanal fishery for ocean quahogs in the waters north of 43° 50′ N. lat. has an annual quota with an initial amount of 100,000 Maine bu (35,240 hectoliters (hL)) within a range of 17,000 to 100,000 Maine bu (5,991 hL to 35,240 hL). As specified in Amendment 10, the Maine mahogany ocean quahog quota is in addition to the quota specified for the ocean quahog fishery. The fishing quotas must be in compliance with overfishing definitions for each species. In proposing these quotas, the Council considered the available stock assessments, data reported by harvesters and processors, and other relevant information concerning exploitable biomass and spawning biomass, fishing mortality rates, stock recruitment, projected effort and catches, and areas closed to fishing. This information was presented in a written report prepared by the Council staff. The proposed quotas for the 2004 Atlantic surfclam, ocean quahog, and Maine mahogany ocean quahog fisheries are shown here. The status quo level of 2003 for the Maine mahogany ocean quahog is proposed to be maintained for 2004, but the surfclam quota would be increased by 4.6 percent (from 3.25 to 3.4 million bu) and the ocean quahog quota would be increased by 11.1 percent (from 4.5 to 5.0 million bu).

Proposed 2004 Surfclam/Ocean Quahog Quotas
Fishery | 2004 final quotas (bu) | 2004 final quotas (hL)
¹Surfclam | 3,400,000 | 1,810,000
¹Ocean quahog | 5,000,000 | 2,662,000
²Maine mahogany ocean quahog | 100,000 | 35,240
¹ 1 bushel = 1.88 cubic ft. = 53.24 liters
² 1 bushel = 1.2445 cubic ft. = 35.24 liters

Surfclams

The Council's recommended 2004 quota of 3.4 million bu (1.81 million hL) for surfclams is the fourth change in the quota since 1995. In 1999, the Council expressed its intention to increase the surfclam quota to OY over a period of 5 years, (OY = 3.4 million bu (1.810 million hL)). The most recent assessment for surfclams, Stock Assessment Workshop 30 (SAW 30), indicated that the resource is at a high level of biomass, is under-exploited, and can safely sustain increased harvests, but cautioned that it may be advantageous to avoid localized depletion. Industry reports that the current demand for clam products is very strong, with processors describing an inability to fill all orders due to a lack of clams. However, information reported by industry in their vessel trip reports has shown a steady reduction in the landings per unit of effort, an important indicator that the annual quota is approaching the OY for the resource. Federal landings of surfclams increased by 8 percent in 2002 to a total of 3.11 million bu (1.656 million hL). The majority of the surfclam catch continues to be derived from one area (northern NJ). Based on the information and advice from the most recent assessment for surfclams, the Council recommends an increase of 4.6 percent from the 2003 level of 3.25 million bu (1.730 million hL), which would result in a 2004 quota of 3.4 million bu (1.810 million hL), the maximum allowable quota under the current FMP.

Ocean Quahogs

The Council has recommended a 2004 quota of 5.0 million bu (2.662 million hL) for ocean quahogs. This represents an increase of 11.1 percent, but would be the first increase in the quota in 5 years. Although ocean quahog landings had been on a declining trend from the 4.9-million bu (2.609 million hL) peak in 1992, quahog landings have increased consecutively by 17 percent and by 5 percent for the past 2 fishing years (from fishing year 2000 to 2001, and from fishing year 2001 to 2002, respectively) to a total of 3.87 million bu (2.061 million hL), or 86 percent of the annual quota in fishing year 2002. Another encouraging development has been the increase in average landings per unit of effort in 2002. Considering these positive indicators for the status of the ocean quahog stock, the Council recommends increasing the ocean quahog quota for 2004 by 11.1 percent, to 5.0 million bu (2.662 million hL). The best scientific information currently available suggests that an increase in the quahog quota to 5.0 million bu (2.662 million hL) would be sustainable. Such an increase in the quahog quota would also help offset the impact on industry of the expected reduction of the NJ state surfclam quota to prevent localized depletion of the surfclam resource in state waters.

The Atlantic surfclam and ocean quahog quotas are specified in standard bushels of 53.24 L per bushel, while the Maine mahogany ocean quahog quota is specified in “Maine” bushels of 35.24 L per bushel. Because Maine mahogany ocean quahogs are the same species as ocean quahogs, both fisheries are combined and share the same ocean quahog overfishing definition. When the two quota amounts (ocean quahog and Maine mahogany quahog) are added, the total allowable harvest is still lower than the level that would result in overfishing for the entire stock.

The Council has recommended that the Maine mahogany ocean quahog quota for 2004 remain unchanged from the 2001, 2002, and 2003 quota level at 100,000 Maine bu (35,240 hL). No additional information is available at this time on the impacts of the Maine mahogany ocean quahog quota that would allow a more in-depth analysis of the stock and, therefore, allow the quota to be increased beyond the current maximum level of 100,000 Maine bu (35,240 hL). An effort is currently underway within the State of Maine to initiate a scientific survey and assessment of the ocean quahog resource. From the best scientific information currently available, maintaining the quota at its current level for another year will not seriously constrain the fishery or endanger the resource.

Classification

This action is authorized by 50 CFR part 648 and has been determined to be not significant for purposes of Executive Order 12866.

The Council prepared an IRFA in section 8.0 of the RIR that describes the economic impacts this proposed rule, if adopted, would have on small entities. A description of the action, why it is being considered, the objectives and the legal basis for this action are contained in the SUPPLEMENTARY INFORMATION section of this Proposed Rule. This action does not duplicate, overlap, or conflict with any other Federal rules. A summary of the IRFA follows:

Vessels

In 2002, a total of 54 vessels reported harvesting surfclams or ocean quahogs from Federal waters under an Individual Transferable Quota (ITQ) system. Average 2002 gross income for surfclam harvests was $740,500 per vessel, and $668,990 per vessel for ocean quahog harvests. In the small artisanal fishery for ocean quahogs in ME, 35 vessels reported harvests in the clam logbooks, with an average value of $135,511 per vessel. All of these vessels fall within the definition of a small entity. The Council recommends a 4.6-percent increase in the surfclam quota, an 11.1-percent increase in the ocean quahog quota, and no change in the 2004 quota for Maine mahogany ocean quahogs from their 2003 quotas. Since 2002 harvest levels of 3.133 and 3.871 million bu (1.668 and 2.061 million hL) for surfclams and ocean quahogs, respectively, were below the 2004 proposed quotas, the Council believes that the proposed 2004 quotas may yield a surplus quota available to vessels participating in all these fisheries. This is especially likely to occur in the ocean quahog fishery. In the case of a surplus quota, vessels would not be constrained from harvesting additional product, thus allowing them to increase their revenues.

The Council analyzed four ocean quahog quota alternatives in addition to the preferred 5.000-million bu (2.662-million hL) option, including 4.000, 4.250, 4.500, and 6.000 million bu (2.129, 2.263, 2.396, and 3.195 million hL). The minimum allowable quota specified in the current OY range is 4.000 million bu (2.129 million hL) of ocean quahogs. Adoption of a 4.000-million bu (2.129-million hL) quota would represent a 12-percent decrease from the current 4.500-million bu (2.396-million hL) quota and, assuming the entire quota were harvested, a 3-percent increase in harvest from the 2002 harvest level of 3.871 million bu (2.061 million hL). This alternative would take the most conservative approach to managing the fishery that is currently available to the Council, but would result in the fewest economic benefits available to the ocean quahog fishery. Adoption of the 4.250-million bu (2.263-million hL) quota would represent a 10-percent increase to the 2002 ocean quahog landings, but a 6-percent decrease from the 2003 quota level. Given the current biological status of the quahog resource, the Council does not believe that a quota reduction is warranted at this time. Adoption of the 4.500-million bu (2.396-million hL) quota would most likely have a limited impact on small entities, since it results in no change from status quo. The preferred alternative allows for an 11.1-percent increase in quota from 4.500 million bu (2.396 million hL) to 5.000 million bu (2.662 million hL), and a 29-percent increase to the 2002 ocean quahog landings. Adopting the maximum allowable quota of 6.000 million bu (3.195 million hL) for ocean quahogs would represent a 33-percent increase in allowable harvest and a 55-percent increase in landings from 2002, assuming all the quota were harvested. However, the industry does not have a market available to absorb such a large increase in landings and may not have the vessel capacity necessary to harvest a quota this large. Since all alternatives, including the preferred, would yield increases relative to the actual 2002 landings, increased revenues would be likely to occur, albeit at various percentage differences.

The Council identified four surfclam quota alternatives in addition to the preferred alternative of 3.400 million bu (1.810 million hL), including 1.850, 3.135, 3.250, and 3.325 million bu (0.985, 1.669, 1.730 and 1.771 million hL). The minimum allowable quota specified in the current OY range is 1.850 million bu (0.985 million hL) of surfclams. Adoption of a 1.850-million bu (0.985-million hL) quota would represent a 43-percent decrease from the current 3.250-million bu (1.517-million hL) quota, and a 41-percent decrease from the 2002 harvest level of 3.113 million bu (1.658 million hL). A reduction in quota of this magnitude would have a substantially negative impact on overall ex-vessel revenues. Adoption of the 3.135-million bu (1.669-million hL) quota would represent a 0.7-percent increase in the 2002 surfclam landings but a 4-percent decrease from the 2003 quota level. Given the current biological status of the surfclam resource, the Council does not believe that a quota reduction is warranted at this time. Adoption of the 3.250-million bu (1.730-million hL) quota would most likely have a limited impact on small entities, since it results in no change from status quo. Adoption of the 3.325-million bu (1.771-million hL) quota would represent a 7-percent increase to the 2002 surfclam landings and a 2-percent increase to the 2003 quota level. The preferred alternative allows for a 9-percent increase in the 2002 surfclam landings and a 4.6-percent increase in quota from 3.250 million bu (1.730 million hL) to the maximum allowable quota of 3.400 million bu (1.810 million hL) . In summation, the Council determined that the only alternative that would significantly negatively impact revenues to vessels is the 1.850-million bu (0.985-million hL) alternative for surfclams. The 3.135-million bu (1.669-million hL) and status quo alternative would be restrictive and have a slight to moderate impact on revenues. The 3.325-million bu (1.771-million hL) and preferred alternatives would yield increases relative to the actual 2002 landings, so increased revenues would be likely to occur. The resource can support the 4.6-percent increase in landings and the industry believes it can utilize this additional product and thus have a beneficial impact for the Nation.

The quota for Maine mahogany ocean quahogs is specified at a maximum 100,000 bu (35,240 hL). The FMP specifies that upward adjustments to the quota would require a scientific survey and stock assessment of the Maine mahogany ocean quahog resource. However, no survey or assessment has been conducted. The Council considered two alternative quotas for the Maine mahogany ocean quahog fishery, in addition to the preferred alternative of 100,000 bu (35,240 hL), including 50,000 bu and 84,700 bu (17,620 and 29,847 hL). Any quota the Council would have recommended below the 1999 landing level of 93,938 Maine bu (33,104 hL) would most likely have resulted in a decrease in revenues to individual vessels.

Processors

As of mid-2003, there were 9 processors that participated in the surfclam and ocean quahog fisheries, plus 10 companies that bought ocean quahogs directly from vessels from within the State of Maine. Of the nine processors, approximately six are responsible for the vast majority of purchases in the ex-vessel market and sale of processed clam products in appropriate wholesale markets. Impacts to surfclam and ocean quahog processors would most likely mirror the impacts of the various quotas to vessels as discussed above. Revenues earned by processors would be derived from the wholesale market for clam products, and since a large number of substitute products (i.e., other food products) are available, the demand for processed clam products is likely to be price-dependent.

Allocation Holders

In 2003, surfclam allocation holders totaled 102, while 63 firms or individuals held ocean quahog allocation. If the recommended quotas are accepted, i.e., a slight increase of 4.6 percent for surfclams, an 11.1-percent increase for ocean quahogs, and no change from the 2003 quota for Maine mahogany ocean quahogs, it is likely that impacts to allocation holders or buyers would be minimal. Theoretically, increases in quota would most likely benefit those who purchase quota (through lower prices (values)) and negatively impact sellers of quota because of reduction in value. Decreases in quota would most likely have an opposite effect.

Reporting and Recordkeeping Requirements

This proposed rule would not impose any new reporting, recordkeeping, or other compliance requirements. Therefore, the costs of compliance would remain unchanged.

Authority: 16 U.S.C. 1801 et. seq.

Dated: October 17, 2003.
Rebecca Lent,
Deputy Assistant Administrator for Regulatory Programs, National Marine Fisheries Service.

[FR Doc. 03-26676 Filed 10-21-03; 8:45 am]

BILLING CODE 3510-22-S